DEPARTMENT OF ENERGY

Federal Energy Regulatory Commission

Combined Notice of Filings #1

Take notice that the Commission received the following electric rate filings:

Docket Numbers: ER10-1874-004; ER10-2881-030; ER10-2882-031; ER10-2883-030; ER10-2884-030.

Applicants: Mankato Energy Center, LLC, Alabama Power Company, Georgia Power Company, Gulf Power Company, Mississippi Power Company.

Description: Notification of Non-Material of Change in Status of Mankato Energy Center, LLC, et al.

Filed Date: 11/22/16.

Accession Number: 20161122-5246.

Comments Due: 5 p.m. ET 12/13/16.

Docket Numbers: ER12-1266-007.

Applicants: Midcontinent Independent System Operator, Inc.

Description: Compliance filing: 2016-11-23_Order 745 Compliance Filing to be effective 6/12/2012.

Filed Date: 11/23/16.

Accession Number: 20161123-5082.

Comments Due: 5 p.m. ET 12/14/16.

Docket Numbers: ER13-1944-005.

Applicants: PJM Interconnection, L.L.C.

Description: Compliance filing: Compliance filing per 10/28/2016 order in Docket No. ER13-1944 to be effective 1/1/2014.

Filed Date: 11/22/16.

Accession Number: 20161122-5198.

Comments Due: 5 p.m. ET 12/13/16.

Docket Numbers: ER17-392-000.

Applicants: City of Pasadena, California.

Description: City of Pasadena, California tariff filing (Work Paper Filings—Parts 1 and 2).

Filed Date: 11/22/16.

Accession Number: 20161122-5245, 20161122-5244.

Comments Due: 5 p.m. ET 12/13/16.

Docket Numbers: ER17-412-000.

Applicants: Midcontinent Independent System Operator, Inc.

Description: § 205(d) Rate Filing: 2016-11-22_SA 2898 Termination of Ameren-Ford County Wind Farm GIA (J375) to be effective 1/23/2017.

Filed Date: 11/22/16.

Accession Number: 20161122-5195.

Comments Due: 5 p.m. ET 12/13/16.

Docket Numbers: ER17-413-000.

Applicants: Southern California Edison Company.

Description: § 205(d) Rate Filing: SCE Amendments to WDAT GIP—Smart Inverter & Interconnection Process to be effective 1/23/2017.

Filed Date: 11/23/16.

Accession Number: 20161123-5081.

Comments Due: 5 p.m. ET 12/14/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 23, 2016.
Nathaniel J. Davis, Sr.,
Deputy Secretary.

[FR Doc. 2016-28815 Filed 11-29-16; 8:45 am]

BILLING CODE 6717-01-P